DEPARTMENT OF HEALTH AND HUMAN SERVICES

National Committee on Vital and Health Statistics: Teleconference

Pursuant to the Federal Advisory Committee Act, the Department of Health and Human Services (HHS) announces the following advisory committee meeting.

Name: National Committee on Vital and Health Statistics (NCVHS), Full Committee Teleconference.

Time and Date: 10 a.m.-11 a.m. (EST); May 4, 2012.

Place: This conference call is scheduled to begin at 10 a.m. Eastern Daylight Time. To participate in the teleconference, please dial 888-989-6416 and enter conference code 3278627, which will connect you to the call.

Status: Open, however teleconference access limited only by availability of telephone ports.

Purpose: The NCVHS has been named in the Patient Protection and Affordable Care Act (ACA) of 2010 to review and make recommendations on standards and operating rules for the following HIPAA transactions: Health care claims, enrollment/disenrollment, premium payment, prior authorization for referrals, and claim attachments This meeting will support these activities in the development of a set of recommendations for the Secretary, as required by § 1104 of the ACA.

Contact Person for More Information: Marjorie S. Greenberg, Executive Secretary, NCVHS, National Center for Health Statistics, Centers for Disease Control and Prevention, 3311 Toledo Road, Room 2402, Hyattsville, Maryland 20782, telephone (301) 458-4245 or Lorraine Doo, lead staff for the Standards Subcommittee, NCVHS, Centers for Medicare and Medicaid Services, Office of E-Health Standards and Services, 7500 Security Boulevard, Baltimore, Maryland 21244, telephone (410) 786-6597. Program information as well as summaries of meetings and a roster of committee members is available on the NCVHS home page of the HHS Web site: http://www.ncvhs.hhs.gov/, where further information including an agenda will be posted when available.

Should you require reasonable accommodation, please contact the CDC Office of Equal Employment Opportunity on (301) 458-4EEO (4336) as soon as possible.

Dated: April 16, 2012.
James Scanlon,
Deputy Assistant Secretary for Planning and Evaluation, Office of the Assistant Secretary for Planning and Evaluation.

[FR Doc. 2012-9614 Filed 4-20-12; 8:45 am]

BILLING CODE 4151-05-P